DEPARTMENT OF TRANSPORTATION

Pipeline and Hazardous Materials Safety Administration

[Docket No. PHMSA-2005-21159, Notice No. 04]

Safety Advisory: Unauthorized Marking of Compressed Gas Cylinders

AGENCY: Pipeline and Hazardous Materials Safety Administration (PHMSA), DOT.

ACTION: Safety advisory notice.

SUMMARY: This is to notify the public that PHMSA is investigating the unauthorized marking of high- and low-pressure compressed gas cylinders, including fire extinguishers, oxygen cylinders, and self-contained breathing apparatus, by All-Out Fire Equipment Co., Inc. The company is located at 385 High Street, Holbrook, NY. On June 15, 2004, two inspectors from the Office of Hazardous Materials Enforcement (OHME—Eastern Region) conducted a compliance inspection of All-Out Fire Equipment Co., Inc. During the inspection, PHMSA obtained evidence that All-Out Fire Equipment Co., Inc. had marked, certified, and returned to service an undetermined number of cylinders as being properly tested in accordance with the Hazardous Materials Regulations (HMR), without conducting the required hydrostatic testing of those cylinders.

All-Out Fire Equipment Co., Inc.'s retest records revealed that, from November 2003 through June 2004, All-Out Fire Equipment Co., Inc. had returned to service hundreds of cylinders without hydrostatically testing them. In addition, PHMSA found no records of hydrostatic testing for cylinders All-Out Fire Equipment Co., Inc. had requalified prior to November 2003. This and other evidence obtained by PHMSA indicates that All-Out Fire Equipment Co., Inc. also failed to perform required hydrostatic testing on cylinders it requalified prior to November 2003.

Hydrostatic retesting and visual inspection, conducted as prescribed in the HMR, are used to verify the structural integrity of a cylinder. If the hydrostatic retesting and visual inspection are not performed in accordance with the HMR, a cylinder with compromised structural integrity may be returned to service when it should have been condemned in the first place. Extensive property damage, serious personal injury, or death could result from rupture of a cylinder. Cylinders that have not been retested in accordance with the HMR may not be charged or filled with compressed gas or other hazardous material.

FOR FURTHER INFORMATION CONTACT: Chris Michalski, Senior Inspector, Office of Hazardous Materials Enforcement, Pipeline and Hazardous Materials Safety Administration, U.S. Department of Transportation, 820 Bear Tavern Road, Suite 306, West Trenton, NJ 08626. Telephone: (609) 989-2256, Fax: (609) 989-2277.

SUPPLEMENTARY INFORMATION: Through its inspection, PHMSA has determined that All-Out Fire Equipment Co., Inc. marked and certified an undetermined number of cylinders as having been properly tested in accordance with the HMR, without actually retesting the cylinders. During the inspection, All-Out Fire Equipment Co., Inc. was unable to calibrate its test equipment. In addition, All-Out Fire Equipment Co., Inc. failed to keep complete records of its retest and re-inspections; thus, it is impossible to determine the number of cylinders that All-Out Fire Equipment Co., Inc. has improperly re-certified. These cylinders pose a potential safety risk to the public.

The cylinders in question are stamped with the following RIN: A261. The markings appear in the following pattern:

A 2

M Y

1 6

M is the month of retest (e.g. 10), and Y is the year of the retest (e.g. 01).

Anyone who has a cylinder that has been serviced by All-Out Fire Equipment Co., Inc. and that is marked with RIN number A261 should consider the cylinder unsafe and not fill it with a hazardous material unless the cylinder is first properly retested by a DOT-authorized retest facility. Filled cylinders (if filled with an atmospheric gas) described in this safety advisory should be vented or otherwise safely discharged and then taken to a DOT-authorized cylinder retest facility for proper retest to determine compliance with the HMR and their suitability for continuing service. Under no circumstance should a cylinder described in this safety advisory be filled, refilled, or used for its intended purpose until it is re-inspected and retested by a DOT-authorized retest facility.

It is further recommended that persons finding or possessing a cylinder or cylinders described in this safety advisory contact Inspector Michalski for additional information. The inspector can also provide a list of authorized retest facilities in your area or you may obtain such a list at the following Web site: http://hazmat.dot.gov.

Issued in Washington, DC on September 9, 2005.
Robert A. McGuire,
Associate Administrator for Hazardous Materials Safety.

[FR Doc. 05-18275 Filed 9-13-05; 8:45 am]

BILLING CODE 4910-06-P